DEPARTMENT OF COMMERCE

Economic Development Administration

Notice of Petitions by Producing Firms for Determination of Eligibility To Apply for Trade Adjustment Assistance

AGENCY: Economic Development Administration, Commerce.

ACTION: To give firms an opportunity to comment.

Petitions have been accepted for filing on the dates indicated from the firms listed below.

List of Petition Action by Trade Adjustment Assistance for Period 8/17/01-9/13/01
Firm name | Address | Date petition accepted | Product
Sigma Equipment Corporation | 39 Westmoreland Ave., White Plains, NY 10606 | 08/29/01 | Machinery for bar and powder soap production.
Aerostar International, Inc | 200 E. 6th Street, Sioux Falls, SD 57117 | 08/30/01 | Sportswear, uniforms, medical and cleanroom garments.
Wheeler Tank Manufacturing, Inc | 4001 N. 4th Avenue, Sioux Falls, SD 57118 | 08/30/01 | Steel tanks.
B.A. Die Mold, Inc | 3685 Prairie Lake Court | 08/31/01 | Molds for plastic injection, machined of metal.
Strube Packing Company | P.O. Box 36, Rowena, TX 76875 | 09/04/01 | Processing lamb meat.
Apex Precision Technologies, Inc | 8824 Union Mills Drive, Camby, IN 46113 | 08/31/01 | Axle housings.
Hansen L.L.C | 2214 NW 198th Street, Shoreline, WA 98177 | 08/31/01 | Salmon.
Multi Products, Inc | 2131 State Street, Erie, PA 16503 | 09/04/01 | Plastic molded components, including air purifying equipment, wheelchairs, headlight covers, and other misc. parts.
National Jet Company, Inc | 10 Cupler Drive, Lavale, MD 21502 | 09/04/01 | Microscopic drills.
J.B. Wood Products | 1285 County Street, Attleboro, MA 02703 | 09/04/01 | Wood craft items i.e., plaques, wall tissue boxes, tv remote control caddy, etc.
Cyan Company, Inc | 508 Wilson Road, Weatherford, OK 73096 | 09/05/01 | Solar heater controls.
James A. Rogers dba Rogers Tool & Mold | 28042 Ave. Sanford “E”, Valencia, CA 91355 | 09/05/01 | Molds for plastic injection molding.
Ransco Industries, L.P | 1400 E. Statham Pky, Oxnard, CA 93033 | 09/05/01 | Industrial machinery that performs thermal shock testing in the automotive and electronics industries.
Elite Formal Accessories, Inc | 2280 SW 70th Ave., Davie, FL 33317 | 09/05/01 | Formal wear accessories, vests, bowties, packet quares and cummerbunds.
J-Mac Plastics, Inc | 40 Lafayette Place, Kenilworth, NJ 07033 | 09/12/01 | Plastic molded products for the household industry, i.e. clock and thermometer cases and frames, etc.
Little Log Co., Inc | 307 N. Highway 183, Sargent, NE 68874 | 09/12/01 | Bird houses and feeders.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: September 13, 2001.
Anthony J. Meyer,
Coordinator, Trade Adjustment and Technical Assistance.

[FR Doc. 01-23285 Filed 9-18-01; 8:45 am]

BILLING CODE 3510-24-P